DEPARTMENT OF THE INTERIOR

National Park Service

[NPS-WASO-NRNHL-23623; PPWOCRADI0, PCU00RP14.R50000]

National Register of Historic Places; Notification of Pending Nominations and Related Actions

AGENCY: National Park Service, Interior.

ACTION: Notice.

SUMMARY: The National Park Service is soliciting comments on the significance of properties nominated before June 10, 2017, for listing or related actions in the National Register of Historic Places.

DATES: Comments should be submitted by August 2, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before June 10, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Valentine, Walter D., Cottage B, 1419 E. Palm St., Altadena, SG100001337

San Bernardino County

Dunn, Robert J., House, 1621 Garden St., Redlands, SG100001336

San Francisco County

Geilfuss, Henry, House, 811 Treat Ave., San Francisco, SG100001338

COLORADO

Larimer County

Truscott Junior High School, (Colorado's Mid Century Schools, 1945-1970 MPS), 211 W. 6th St., Loveland, MP100001339

CONNECTICUT

New Haven County

Orange Street Historic District (Boundary Increase), Portions of Anderson, Canner, Cottage, Eagle, Foster, Nash, Nicoll, North Bank & Willow Sts., New Haven, BC100001340

ILLINOIS

Cook County

West Loop—LaSalle Street Historic District, 330 S. Wells & 212 W. Van Buren Sts., Chicago, BC100001342

MICHIGAN

Keweenaw County

Brockway Mountain Drive, Entire length of Brockway Mountain Dr., Eagle Harbor Township, SG100001345

MISSOURI

Jackson County

ACME Cleansing Company Building, 3200 Gillham Rd., Kansas City, SG100001346

Agee Apartments Historic District, (Colonnade Apartment Buildings of Kansas City, MO MPS), 3200-3218 Linwood Blvd., Kansas City, MP100001347

Blenheim School, (Kansas City, Missouri School District Pre-1970 MPS), 2411 E. 70th Terrace, Kansas City, MP100001348

Gotham Apartments, (Colonnade Apartment Buildings of Kansas City, MO MPS), 2718 Linwood Blvd., Kansas City, MP100001349

Kansas City Public Library and Board of Education Building, 1211 McGee St., Kansas City, SG100001350

Luzier Special Formula Laboratories Building, 3216 Gillham Place, Kansas City, SG100001351

Oregon County

Church of the Holy Trinity, 117 N. 5th St., Thayer, SG100001352

NEBRASKA

Douglas County

Fairacres Historic District, Roughly bounded by Fairacres Rd., Dodge, N. 62nd, California & N. 68th Sts., Omaha, SG100001353

Gross, J.A., Commercial Building, 4801-4811 NW. Radial Hwy., Omaha, SG100001354

Immanuel Deaconess Institute Nurses' Home and School for Nursing, 3483 Larimore Ave., Omaha, SG100001355

Red Willow County

Bartley Sales Barn, SW. corner of US 6/34 & Commercial St., Bartley, SG100001356

Sarpy County

Bellevue College Dormitories, 400 W. 19th Ave., Bellevue, SG100001357

NEW YORK

Delaware County

United Presbyterian Church of Davenport, 15673 & 15705 NY 23, Davenport, SG100001360

Erie County

Buffalo Public School No. 77 (PS 77), 429 Plymouth Ave., Buffalo, SG100001361

Oneida County

Bagg's Square East Historic District, Broad, Catherine, 1st, John, Main, Oriskany, Railroad & 2nd Sts., Utica, SG100001362

Westchester County

Underhill—Acker House, 4 Hamilton Ave., Croton-on-Hudson, SG100001363

PENNSYLVANIA

Philadelphia County

First Troop Philadelphia City Cavalry Armory, (Pennsylvania National Guard Armories MPS), 22 S. 23rd St., Philadelphia, 90000420

RHODE ISLAND

Providence County

Rochambeau Worsted Company Mill, 60 King St., Providence, SG100001366

SOUTH CAROLINA

Charleston County

Charleston Cemeteries Historic District, Huguenin Ave., roughly bounded by Algonquin Rd., CSXRR, N. Romney & Meeting Sts., Charleston, SG100001367

TENNESSEE

Blount County

Vose School, Birch & Locust Sts., Alcoa, SG100001368

Morgan County

Tanner Store, 201 Court St., Wartburg, SG100001369

Shelby County

Clayborn Temple, 294 Hernando St., Memphis, SG100001370

Wildwood Farms, 2737 S. Germantown Rd., Germantown, SG100001371

TEXAS

Collin County

Plano Downtown Historic District, 1000 blk. & 1112 E. 15th St., 1020 E. 15th Pl., 1410-1416 J & 1416-1430 K Aves., Plano, SG100001372

Dallas County

Garland Downtown Historic District (Boundary Increase), 212 N. 7th St., Garland, BC100001373

Harris County

Duncan, Charles W., Sr. and Mary, House, 3664 Inverness Dr., Houston, SG100001374

Heights Theater, (Houston Heights MRA), 339 W. 19th St., Houston, MP100001375

Montague County

Montague County Courthouse and Jail, 101 E. Franklin St., Montague, SG100001377

Tarrant County

Oxsheer, Fountain G. and Mary, House, 1119 Pennsylvania Ave., Fort Worth, SG100001378

Travis County

Tucker Apartment House, 1105 Nueces St., Austin, SG100001379

WISCONSIN

Crawford County

St. Mary's Academy and College, 604 S. Beaumont Rd., Prairie du Chien, SG100001380

In the interest of preservation, a SHORTENED comment period has been requested for the following resource(s):

NORTH DAKOTA

Morton County

Mandan High School, 406 4th St., Mandan, SG100001364, Comment period: 3 days

A request for removal has been made for the following resource(s):

NEBRASKA

Valley County

People's Unitarian Church, 1640 N. St., Ord, OT84002497

TEXAS

Harris County

Houston Turn-Verein, 5202 Almeda Rd., Houston, OT78002944

An additional documentation has been received for the following resource(s):

CONNECTICUT

New London County

Fort Griswold, Bounded by Baker Ave., Smith St., Park Ave., Monument Ave., and Thames River, Groton, AD70000694

NEW JERSEY

Burlington County

Smithville Historic District, Smithville Rd., Forest, Railroad, Park & Maple Aves., River St., Smithville Lake, Smithville, AD77000856

NORTH CAROLINA

Durham County

Morehead Hill Historic District, (Durham MRA), 803 & 807 Vickers Ave., Durham, AD85001792

Nominations submitted by Federal Preservation Officers:

The State Historic Preservation Officer reviewed the following nomination and responded to the Federal Preservation Officer within 45 days of receipt of the nomination and supports listing the property in the National Register of Historic Places.

INDIANA

La Porte County

Michigan City Breakwater Light, (Light Stations of the United States MPS), On breakwater in L. Michigan .5 mi. NW. of Michigan City Harbor, Michigan City vicinity, MP100001344

Authority: 36 CFR 60.13.

Dated: June 22, 2017.
Christopher Hetzel,
Acting Chief, National Register of Historic Places/National Historic Landmarks Program.

[FR Doc. 2017-14988 Filed 7-17-17; 8:45 am]

BILLING CODE 4312-52-P